ENVIRONMENTAL PROTECTION AGENCY

[FRL-8338-3]

SES Performance Review Board; Membership

AGENCY: Environmental Protection Agency.

ACTION: Notice.

SUMMARY: Notice is hereby given of the membership of the EPA Performance Review Board

FOR FURTHER INFORMATION CONTACT: Arnold E. Layne, Director, Executive Resources Division, 3606A, Office of Human Resources, Office of Administration and Resources Management, Environmental Protection Agency, 1200 Pennsylvania Avenue, NW., Washington, DC 20460, (202) 564-3944.

SUPPLEMENTARY INFORMATION: Section 4314 (c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the EPA Performance Review Board are:

Kenneth T. Venuto (Chair), Director, Office of Human Resources, Office of Administration and Resources Management,

George W. Alapas, Deputy Director for Management, National Center for Environmental Assessment, Office of Research and Development,

Kerrigan G. Clough, Deputy Regional Administrator, Region 8,

Howard F. Corcoran, Director, Office of Grants and Debarment, Office of Administration and Resources Management,

Alexander Cristofaro, Director, Office of Regulatory Policy and Management, Office of the Administrator,

Joan Fidler, Director, Office of Western Hemisphere and Bilateral Affairs, Office of International Affairs,

Nanci E. Gelb, Deputy Director, Office of Ground Water and Drinking Water, Office of Water,

Robin L. Gonzalez, Director, National Technology Services Division-RTP, Office of Environmental Information,

Gregory A. Green, Deputy Director, Office of Air Quality Planning and Standards, RTP, Office of Air and Radiation,

Sally C. Gutierrez, Director, National Risk Management Research Laboratory, Cincinnati, Office of Research and Development,

Karen D. Higgenbotham (Ex-Officio), Director, Office of Civil Rights, Office of the Administrator,

James J. Jones, Principal Deputy Assistant Administrator, Office of Prevention, Pesticides and Toxic Substances,

Nancy J. Marvel, Regional Counsel, Region 9, Office of Enforcement and Compliance Assurance,

Kathleen S. O'Brien, Deputy Director, Office of Planning, Analysis, and Accountability, Office of the Chief Financial Officer,

James T. Owens III, Director, Office of Administration and Resources Management, Region 1

George Pavlou, Director, Emergency and Remedial Response Division, Region 2

Stephen G. Pressman, Associate General Counsel (Civil Rights), Office of General Counsel,

Cecilia M. Tapia, Director, Superfund Division, Region 7,

James Woolford, Director, Office of Superfund Remediation and Technology Innovation, Office of Solid Waste and Emergency Response,

Arnold E. Layne (Executive Secretary), Director, Executive Resources Division, Office of Human Resources, Office of Administration and Resources Management.

Dated: June 28, 2007.
Sherry A. Kaschak,
Acting Assistant Administrator for Administration and Resources Management.

[FR Doc. E7-13335 Filed 7-9-07; 8:45 am]

BILLING CODE 6560-50-P